THE BUREAU OF CONSUMER FINANCIAL PROTECTION

Privacy Act of 1974, as Amended

AGENCY: Bureau of Consumer Financial Protection.

ACTION: Notice of Proposed Privacy Act System of Records.

SUMMARY: In accordance with the Privacy Act of 1974, as amended, the Bureau of Consumer Financial Protection, hereinto referred to as the Consumer Financial Protection Bureau (“CFPB” or the “Bureau”), gives notice of the establishment of a Privacy Act System of Records.

DATES: Comments must be received no later than November 23, 2012. The new system of records will be effective December 3, 2012, unless the comments received result in a contrary determination.

ADDRESSES: You may submit comments by any of the following methods:

• Electronic: privacy@cfpb.gov.

• Mail/Hand Delivery/Courier: Claire Stapleton, Chief Privacy Officer, Consumer Financial Protection Bureau, 1700 G Street NW., Washington, DC 20552.

Comments will be available for public inspection and copying at 1700 G Street NW., Washington, DC 20552 on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, Consumer Financial Protection Bureau, 1700 G Street NW., Washington, DC 20552, (202) 435-7220.

SUPPLEMENTARY INFORMATION: The Dodd-Frank Wall Street Reform and Consumer Protection Act (“Act”), Public Law 111-203, Title X, established the CFPB to administer and enforce federal consumer financial law. The new system of records described in this notice, CFPB.023—CFPB Prize Competitions Program Records, will enable the CFPB to manage its prize competition program authorized by the America COMPETES Reauthorization Act of 2010, select judges for CFPB sponsored prize competitions, maintain accounting and financial information associated with making authorized payments to companies or individuals who are CFPB sponsored prize competition awardees, develop reports to applicable federal, state, and local taxing officials of taxable income, and to meet other reporting requirements. The CFPB will maintain control over the records covered by this notice.

The report of the new system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000,¹ and the Privacy Act, 5 U.S.C. 552a(r).

¹ Although the CFPB, under 12 U.S.C. 5497(a)(4)(E), is not legally required to follow OMB-issued guidance, it voluntarily follows OMB privacy-related guidance as a best practice and to facilitate cooperation and collaboration with other agencies.

The system of records entitled “CFPB.023—CFPB Prize Competitions Program Records” is published in its entirety below.

Dated: October 16, 2012.
Claire Stapleton,
Chief Privacy Officer, Bureau of Consumer Financial Protection.

CFPB.023

SYSTEM NAME:

CFPB Prize Competitions Program Records.

SYSTEM LOCATION:

Consumer Financial Protection Bureau, 1700 G Street NW., Washington, DC 20552.

CATEGORIES OF INDIVIDUALS COVERED BY THE SYSTEM:

Individuals covered by this system include: (1) Any individual who participates in a CFPB sponsored prize competition, or is a CFPB sponsored prize competition awardee, including representatives of companies who, in their business capacity, may participate in or otherwise represent their companies in CFPB sponsored prize competitions; (2) Any individual who nominates an individual to serve as a judge for a CFPB sponsored prize competition, or is nominated to serve as a judge, is currently serving as a judge, has been selected as an alternative judge, and/or has served as a judge and is no longer serving; and (3) Any individual who notarizes, witnesses, or otherwise verifies a declaration of participation associated with a CFPB sponsored prize competition.

CATEGORIES OF RECORDS IN THE SYSTEM:

Information maintained on CFPB sponsored prize competition participants will include: contact information (including name, address, email address, and telephone number). Information maintained on CFPB sponsored prize competition awardees will include: (1) Contact information (including name, address, email address, and telephone number); (2) employment information, including title; (3) information necessary for payment, including Social Security number (“SSN”), Tax Identification Number (“TIN”), Employee Identification Number (“EIN”), Data Universal Numbering System (“DUNS”) Number, Commercial and Government Entity (“CAGE”) number, Electronic Funds Transfer (“EFT”) data, and/or financial institution name, routing, and account numbers; and (4) information relevant to determination of eligibility for selection as a prize competition awardee, such as employment information, citizenship status, and declaration of desire and eligibility to participate. Information maintained on individuals who nominate an individual to serve as a judge for a CFPB sponsored prize competition will include name and contact information (including name, address, email address, and telephone number). Information maintained on individuals serving as, or being nominated to serve as a judge for a CFPB sponsored prize competition will include place of birth, date of birth, gender, citizenship status, declaration of desire and eligibility to participate, SSN, financial disclosure information, and other information that can be used to determine if the individual is fit to participate. Information collected about individuals who notarize, witness, or otherwise verify declarations of participation associated with a CFPB sponsored prize competition includes name and notary seal (including name, state of issue, and commission expiration date) only.

Records are subject to the Privacy Act only to the extent that they concern individuals; information pertaining to corporations and other business entities and organizations are not subject to the Privacy Act.

AUTHORITY FOR MAINTENANCE OF THE SYSTEM:

America COMPETES Reauthorization Act of 2010, Public Law 111-358, Section 105, codified at 15 U.S.C. 3719; Dodd-Frank Wall Street Reform and Consumer Financial Protection Act of 2010, Public Law 111-203, Section 1012, codified at 12 U.S.C. 5492.

PURPOSE(S):

Records in this system are collected to enable the CFPB to manage its prize competition program authorized by the America COMPETES Reauthorization Act of 2010, select judges for CFPB sponsored prize competitions, maintain accounting and financial information associated with making authorized payments to companies or individuals who are CFPB sponsored prize competition awardees, develop reports to applicable federal, state, and local taxing officials of taxable income, and to meet other reporting requirements.

ROUTINE USES OF RECORDS MAINTAINED IN THE SYSTEM, INCLUDING CATEGORIES OF USERS AND THE PURPOSES OF SUCH USES:

These records may be disclosed, consistent with the CFPB Disclosure of Records and Information Rules, promulgated at 12 CFR 1070 et seq., to:

(1) Appropriate agencies, entities, and persons when: (a) The CFPB suspects or has confirmed that the security or confidentiality of information in the system of records has been compromised; (b) the CFPB has determined that, as a result of the suspected or confirmed compromise, there is a risk of harm to economic or property interests, identity theft or fraud, or harm to the security or integrity of this system or other systems or programs (whether maintained by the CFPB or another agency or entity) that rely upon the compromised information; and (c) the disclosure made to such agencies, entities, and persons is reasonably necessary to assist in connection with the CFPB's efforts to respond to the suspected or confirmed compromise and prevent, minimize, or remedy such harm;

(2) Another federal or state agency to (a) permit a decision as to access, amendment or correction of records to be made in consultation with or by that agency, or (b) verify the identity of an individual or the accuracy of information submitted by an individual who has requested access to or amendment or correction of records;

(3) The Office of the President in response to an inquiry from that office made at the request of the subject of a record or a third party on that person's behalf;

(4) Congressional offices in response to an inquiry made at the request of the individual to whom the record pertains;

(5) Contractors, agents, or other authorized individuals performing work on a contract, service, cooperative agreement, job, or other activity on behalf of the CFPB or Federal Government and who have a need to access the information in the performance of their duties or activities;

(6) The U.S. Department of Justice (“DOJ”) for its use in providing legal advice to the CFPB or in representing the CFPB in a proceeding before a court, adjudicative body, or other administrative body, where the use of such information by the DOJ is deemed by the CFPB to be relevant and necessary to the advice or proceeding, and such proceeding names as a party in interest:

(a) The CFPB;

(b) Any employee of the CFPB in his or her official capacity;

(c) Any employee of the CFPB in his or her individual capacity where DOJ has agreed to represent the employee; or

(d) The United States, where the CFPB determines that litigation is likely to affect the CFPB or any of its components;

(7) Members of the media, federal, state, and local government officials or other recipients of the CFPB's external affairs communications to inform them about CFPB sponsored prize competitions, awardees, related selection processes, and other program activities;

(8) To the public, members of the media, federal, state, and local government officials, or other recipients of CFPB reports, viewers of the CFPB's Web site, blog postings, and other social media, and recipients of other public relations materials issued by the CFPB about CFPB sponsored prize competitions, awardees, related selection processes, and other program activities; and

(9) To the Treasury Department, Internal Revenue Service, and other governmental entities, including state and local taxing officials, to facilitate taxation of payments made to CFPB sponsored prize competition awardees.

POLICIES AND PRACTICES FOR STORING, RETRIEVING, ACCESSING, RETAINING, AND DISPOSING OF RECORDS IN THE SYSTEM: STORAGE:

Paper and electronic records.

RETRIEVABILITY:

Records are retrievable by a variety of fields including, without limitation, the individual's name, SSN, address, account number, phone number, date of birth, employer, prize competition name, or by some combination thereof.

SAFEGUARDS:

Access to electronic records is restricted to authorized personnel who have been issued non-transferrable access codes and passwords. Other records are maintained in locked file cabinets or rooms with access limited to those personnel whose official duties require access.

RETENTION AND DISPOSAL:

The CFPB will maintain electronic and paper records indefinitely until the National Archives and Records Administration (“NARA”) approves the CFPB's records disposition schedule.

SYSTEM MANAGER(S) AND ADDRESS:

Consumer Financial Protection Bureau, Chief Financial Officer, 1700 G Street NW., Washington, DC 20552.

NOTIFICATION PROCEDURE:

Individuals seeking notification and access to any record contained in this system of records, or seeking to contest its content, may inquire in writing in accordance with instructions appearing in Title 12, Chapter 10 of the CFR, “Disclosure of Records and Information.” Address such requests to: Chief Privacy Officer, Bureau of Consumer Financial Protection, 1700 G Street NW., Washington, DC 20552.

RECORD ACCESS PROCEDURES:

See “Notification Procedures” above.

CONTESTING RECORD PROCEDURES:

See “Notification Procedures” above.

RECORD SOURCE CATEGORIES:

Information in this system is provided by individuals who participate in CFPB sponsored prize competition activities, by individuals who nominate an individual to serve as a judge for a CFPB sponsored prize competition, or individuals who are nominated or serve as judges for a CFPB sponsored prize competition, and by individuals who notarize, witness, or otherwise verify declarations of participation associated with a CFPB sponsored prize competition.

EXEMPTIONS CLAIMED FOR THE SYSTEM:

None.

[FR Doc. 2012-26141 Filed 10-23-12; 8:45 am]

BILLING CODE 4810-AM-P